SMALL BUSINESS ADMINISTRATION

Data Collection Available for Public Comments

ACTION: 60-day notice and request for comments.

SUMMARY: In accordance with the Paperwork Reduction Act of 1995, this notice announces the Small Business Administration's intentions to request approval on a new and/or currently approved information collection.

DATES: Submit comments on or before June 19, 2017.

ADDRESSES: Send all comments regarding whether these information collections are necessary for the proper performance of the function of the agency, whether the burden estimates are accurate, and if there are ways to minimize the estimated burden and enhance the quality of the collections, to Carol Fendler, Director Licensing and Program Standards, Office of Investment, Small Business Administration, 409 3rd Street, 6th Floor, Washington, DC 20416.

FOR FURTHER INFORMATION CONTACT: Carol Fendler, Director Licensing and Program Standards, 202-205-7559 carol.fendler@sba.gov; Curtis B. Rich, Management Analyst, 202-205-7030; curtis.rich@sba.gov.

SUPPLEMENTARY INFORMATION:

Title: “SBIC Financial Reports”

Abstract: To obtain the information needed to carry out its oversight responsibilities under the Small Business Investment Act, the Small Business Administration (SBA) requires Small Business Investment Companies (SBICs) to submit financial statements and supplementary information on SBA Form 468. SBA uses this information to monitor SBIC financial condition and regulatory compliance, for credit analysis when considering SBIC leverage applications, and to evaluate financial risk and economic impact for individual SBICs and the program as a whole.

Description of Respondents: Small Business Investment Companies.

Form Number's: 468.1, .2, .3, .4.

Annual Responses: 1,050.

Annual Burden: 26,700.

Title: “Portfolio Financing Reports”.

Abstract: To obtain the information needed to carry out its program evaluation and oversight responsibilities. SBA requires small business investment companies (SBIC'S) to provide information on SBA Form 1031 each time financing is extended to a small business concern. SBA uses this information to evaluate how SBIC'S fill market financing gaps and contribute to economic growth, and to monitor the regulatory compliance of individual SBIC'S. Individual SBICs and the program as a whole.

Description of Respondents: Small Business Investment Companies.

Form Number: 1031.

Annual Responses: 2,800.

Annual Burden: 560.

Curtis Rich,
Management Analyst.

[FR Doc. 2017-07836 Filed 4-18-17; 8:45 am]

BILLING CODE 8025-01-P